DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Mental Health Client/Participant Outcome Measures

(OMB No. 0930-0285)—Revision

SAMHSA is requesting approval to add 13 questions to its existing Adult Client-level Instrument, and five questions to its Child/Caregiver Client-level Instrument for Center for Mental Health Services (CMHS) grantees. These additional questions are related to specific outcomes for each grant program. Grantees will be required to answer no more than four of the new questions per CMHS grant awarded, in addition to existing questions. Currently, the information collected from these instruments is entered and stored in SAMHSA's Performance Accountability and Reporting System, which is a real-time, performance management system that captures information on the substance abuse treatment and mental health services delivered in the United States. Continued approval of this information collection will allow SAMHSA to continue to meet Government Performance and Results Modernization Act of 2010 (GPRMA) reporting requirements that quantify the effects and accomplishments of its discretionary grant programs, which are consistent with OMB guidance.

SAMHSA and its Centers will use the data collected for annual reporting required by required by GPRMA and to describe and understand changes in outcomes from baseline, to follow-up, to discharge. SAMHSA's report for each fiscal year will include actual results of performance monitoring for the three preceding fiscal years. Information collected through this request will allow SAMHSA to report on the results of these performance outcomes as well as be consistent with SAMHSA-specific performance domains, and to assess the accountability and performance of its discretionary and formula grant programs. The additional information collected through this request will allow SAMHSA to improve its ability to assess the impact of its programs on key outcomes of interest and to gather vital diagnostic information about clients served by CMHS discretionary grant programs.

Changes have been made to add a total of 13 questions to its existing Adult Client-level Instrument, and five questions to its Child/Caregiver Client-level Instrument. The 13 questions that have been added to the Adult Instrument are:

1. Behavioral Health Diagnoses—Please indicate patient's current behavioral health diagnoses using the International Classification of Diseases, 10th revision, Clinical Modification (ICD-10-CM) codes listed below: (Select from list of Substance Use Disorder Diagnoses and Mental Health Diagnoses).

2. [For client] In the past 30 days, how often have you taken all of your psychiatric medication(s) as prescribed to you? (Always, Usually, Sometimes, Rarely, Never).

3. [For grantee] In the past 30 days, how compliant has the client been with their treatment? (Not compliant, Minimally compliant, Moderately compliant, Highly compliant, Fully compliant).

4. [For grantee] Did the client screen positive for a mental health or co-occurring disorder?

a. Mental health disorder (Client screened positive, Client screened negative, Client was not screened).

b. Co-occurring disorder (Client screened positive, Client screened negative, Client was not screened).

i. If client screened positive, was the client referred to the following types of services?

1. Mental health services (Yes/No).

2. Co-occurring services (Yes/No).

ii. If client was referred to services, did they receive the following services?

1. Mental health services (Yes/No/Don't know).

2. Co-occurring services (Yes/No/Don't know).

5. [For client] Please indicate the degree to which you agree or disagree with the following statement: Receiving community-based services through the [insert grantee name] program has helped me to avoid further contact with the police and the criminal justice system. (Strongly agree to Strongly disagree).

6. [For client] In the past 30 days, how many times have you:

a. Been to the emergency room for a physical health care problem?

b. Been hospitalized for a physical health care problem? (Report number of nights hospitalized).

7. [For grantee at follow-up and discharge] Please indicate which type of funding source(s) was (were) used to pay for the services provided to this client since their last interview.

8. [For client] Did the [insert grantee name] help you obtain any of the following benefits?

9. [For client] Did the program provide the following: (Asked of client at Follow-up).

a. HIV test? (Yes/No).

i. If yes, what was the result? (Positive/Negative/Indeterminate/Don't know).

ii. If result was positive, were you connected to treatment services? (Yes/No).

b. Hepatitis B (HBV) test? (Yes/No).

i. If yes, what was the result? (Positive/Negative/Indeterminate/Don't know).

ii. If result was positive, were you connected to treatment services? (Yes/No).

c. Hepatitis C (HCV) test? (Yes/No).

i. If yes, what was the result? (Positive/Negative/Indeterminate/Don't know).

ii. If result was positive, were you connected to treatment services? (Yes/No).

10. [For client if HIV status is positive]:

a. Did you receive a referral from [grantee] to medical care?

b. Have you been prescribed an antiretroviral medication (ART)?

i. For clients who report being prescribed an ART: In the past 30 days, how often have you taken your ART as prescribed to you? (Always, Usually, Sometimes, Rarely, Never).

11. [For Promoting Integration of Primary and Behavioral Health Care grantees only] Skip to Primary and Behavioral Health Care Integration Section H, which captures information on blood pressure, BMI, waist circumference, breath CO for smoking, glucose, cholesterol levels, and triglycerides for adults.

12. [For client] Did the services you received from the program assist you in obtaining employment?

13. [For client] Did the services you received from the program assist you in maintaining employment?

The five questions that have been added to the Child/Caregiver Instrument are:

1. Behavioral Health Diagnoses—Please indicate patient's current behavioral health diagnoses using the International Classification of Diseases, 10th revision, Clinical Modification (ICD-10-CM) codes listed below: (Select from list of Substance Use Disorder Diagnoses and Mental Health Diagnoses).

2. [For client] In the past 30 days:

a. How many times have you thought about killing yourself?

b. How many times did you attempt to kill yourself?

3. [For grantee at follow-up and discharge] Please indicate which type of funding source(s) was (were) used to pay for the services provided to this client since their last interview.

4. [For client] Please indicate your agreement with the following items: (Strongly disagree—Strongly agree): As a result of treatment and services received, my (my child's) trauma and/or loss experiences were identified and addressed.

5. [For client] Please indicate your agreement with the following items: (Strongly disagree—Strongly agree): As a result of treatment and services received for trauma and/or loss experiences, my (my child's) problem behaviors/symptoms have decreased.

Individual grantees will only be required to respond to a subset of these additional questions, with no grantee completing more than four new questions per CMHS grant awarded. Questions will be selected by SAMHSA based on the specific goals and characteristics of the grant program.

SAMHSA is also seeking approval to increase the frequency of reporting for certain physical health indictors, from annually to semi-annually. This data is currently being reported by Primary and Behavioral Health Care Integration (PBHCI) grantees in Section H of the Adult Services Instrument. Additionally, SAMHSA is requesting approval to extend the collection of these indicators to Promoting Integration of Primary and Behavioral Health Care (PIPBHC) grantees, who will also report the data on a semi-annual basis.

Table1—Estimates of Annualized Hour Burden
SAMHSA tool | Number of respondents | Responses per respondent | Total responses | Hours per response | Total hour burden
Adult client-level baseline interview | 41,121 | 1 | 41,121 | 0.67 | 27,551
Adult client-level 6-month reassessment interview ¹ | 27,140 | 1 | 27,140 | 0.67 | 18,184
Adult client-level discharge interview ² | 12,336 | 1 | 12,336 | 0.67 | 8,265
Child/Caregiver client-level baseline interview | 12,681 | 1 | 12,681 | 0.67 | 8,496
Child/Caregiver client-level 6-month reassessment interview ¹ | 8,369 | 1 | 8,369 | 0.67 | 5,607
Child/Caregiver client-level discharge interview ² | 3,804 | 1 | 3,804 | 0.67 | 2,549
PBHCI/PIPBHC Section H Form Only Baseline | 14,800 | 1 | 14,800 | .25 | 3,700
PBHCI/PIPBHC Section H Form Only Follow-Up ³ | 10,952 | 1 | 10,952 | .25 | 2,738
PBHCI/PIPBHC Section H Form Only Discharge ⁴ | 7,696 | 1 | 7,696 | .25 | 1,924
Subtotal | 53,802 |  | 138,899 |  | 79,014
Infrastructure development, prevention, and mental health promotion quarterly record abstraction ⁵ | 982 | 4.0 | 3,928 | 2.0 | 7,856
Total | 54,784 |  | 142,827 |  | 86,870
¹ It is estimated that 30% of baseline clients will complete this interview.
² It is estimated that 66% of baseline clients will complete this interview.
³ It is estimated that 74% of baseline clients will complete this interview.
⁴ It is estimated that 52% of baseline clients will complete this interview.
⁵ Grantees are required to report this information as a condition of their grant.
No attrition is estimated.

Send comments to Summer King, SAMHSA Reports Clearance Officer, 5600 Fishers Lane, Room 15E57-B, Rockville, Maryland 20857, OR email a copy to summer.king@samhsa.hhs.gov. Written comments should be received by July 3, 2018.

Summer King,
Statistician.

[FR Doc. 2018-09423 Filed 5-3-18; 8:45 am]

BILLING CODE 4162-20-P